SECURITIES AND EXCHANGE COMMISSION

Sunshine Act Meetings

Federal Register Citation of Previous Announcement: [75 FR 5636, February 3, 2010]

Status: Open and Closed Meetings.

Place: 100 F Street, NE., Washington, DC.

Date and Time of Previously Announced Meeting: Monday, February 8, 2010 at 10 a.m. and 11 a.m.

Change in the Meeting: Cancellation of Meetings.

The Open Meeting scheduled for Monday, February 8, 2010 at 10 a.m. and the Closed Meeting scheduled for February 8, 2010 at 11 a.m. was cancelled.

For further information please contact the Office of the Secretary at (202) 551-5400.

Dated: February 8, 2010.
Florence E. Harmon,
Deputy Secretary.

[FR Doc. 2010-3044 Filed 2-12-10; 4:15 pm]

BILLING CODE 8011-01-P